DEPARTMENT OF COMMERCE

National Institution of Standards and Technology

Announcing a Meeting of the National Conference on Weights and Measures

AGENCY: National Institute of Standards and Technology, Commerce.

ACTION: Notice of Meeting.

SUMMARY: The 85th Annual Meeting of the National Conference on Weights and Measures will be held July 16 through July 20, 2000, at the Omni Richmond Hotel, 100 South Street, Richmond, VA. The meeting is open to the public. The National Conference on Weights and Measures is an organization of weights and measures enforcement officials of the states, counties, and cities of the United States, other government officials and representatives of business, industry, trade associations, and consumer organizations. Conference members meet twice a year to develop weights and measures laws and to discuss subjects that relate to the field of weights and measures technology and administration. Pursuant to (15 U.S.C. 272(B)(6)), the National Institute of Standards and Technology acts as a sponsor of the National Conference on Weights and Measures in order to promote uniformity among the states in the complex of laws, regulations, methods, and testing equipment that comprises regulatory control by the states of commercial weighing and measuring devices and practices.

DATES: The meeting will be held July 16-July 20, 2000, 8:00 a.m.-5:00 p.m.

ADDRESSES: Omni Richmond Hotel located at 100 South Street, Richmond, VA 23219.

FOR FURTHER INFORMATION CONTACT: Henry V. Oppermann, Chief, NIST, Office of Weights and Measures, 100 Bureau Drive, Stop 2350, Gaithersburg, MD 20899-2350. Telephone (301) 975-4005, or E-mail owm@nist.gov.

Dated: March 17, 2000.
Karen H. Brown,
Deputy Director, NIST.

[FR Doc. 00-10006 Filed 4-20-00; 8:45 am]

BILLING CODE 3510-13-M